DEPARTMENT OF COMMERCE

Foreign-Trade Zones Board

[Order No. 1799]

Voluntary Termination of Foreign-Trade Subzone 90A Smith Corona Corporation, Cortland County, New York

Pursuant to the authority granted in the Foreign-Trade Zones Act of June 18, 1934, as amended (19 U.S.C. 81a-81u), and the Foreign-Trade Zones Board Regulations (15 CFR part 400), the Foreign-Trade Zones Board has adopted the following order:

Whereas, on April 4, 1985, the Foreign-Trade Zones Board issued a grant of authority to the County of Onondaga (grantee of FTZ 90) authorizing the establishment of Foreign-Trade Subzone 90A at the Smith Corona Corporation plant in Cortland County, New York (Board Order 300, 50 FR 15469, 04/18/85);

Whereas, the County of Onondaga has advised that zone procedures are no longer needed at the facility and requested voluntary termination of Subzone 90A (FTZ Docket 63-2011);

Whereas, the request has been reviewed by the FTZ Staff and Customs and Border Protection officials, and approval has been recommended;

Now, therefore, the Foreign-Trade Zones Board terminates the subzone status of Subzone 90A, effective this date.

Signed at Washington, DC, this 16th day of November 2011.
Paul Piquado,
Assistant Secretary of Commerce for Import Administration, Alternate Chairman, Foreign-Trade Zones Board.
Andrew McGilvray,
Executive Secretary.

[FR Doc. 2011-30402 Filed 11-23-11; 8:45 am]

BILLING CODE P